DEPARTMENT OF TRANSPORTATION

Federal Railroad Administration

[Docket No. FRA-2000-7257; Notice No. 51]

Railroad Safety Advisory Committee; Notice of Meeting

AGENCY: Federal Railroad Administration (FRA), Department of Transportation (DOT).

ACTION: Announcement of Railroad Safety Advisory Committee (RSAC) Meeting.

SUMMARY: FRA announces the thirty-eighth meeting of the RSAC, a Federal Advisory Committee that develops railroad safety regulations through a consensus process. The RSAC meeting topics will include opening remarks from the FRA Acting Deputy Administrator, and status reports will be provided by the following Working Groups: Positive Train Control, Hours of Service, Passenger Safety, Locomotive Safety Standards, Railroad Bridge Safety, Medical Standards, Railroad Operating Rules, and Track Safety Standards. The Committee may be asked to approve recommendations concerning a final rule on revision of recordkeeping and reporting requirements for hours of service of safety-critical railroad employees. The Committee may be asked to approve a proposed rule on Railroad Bridge Safety and to consent to a mail ballot on recommendations for a proposed rule on Positive Train Control. The Committee may also be asked to accept a Task concerning hours of service for train, engine and yard employees of intercity and commuter passenger railroads. This agenda is subject to change, including the possible addition of further proposed tasks under the Rail Safety and Improvement Act of 2008.

DATES: The meeting of the RSAC is scheduled to commence at 9:30 a.m. and will adjourn by 4:30 p.m. on Thursday, April 2, 2009.

ADDRESSES: The RSAC meeting will be held at the Washington Marriott Hotel, located at 1221 22nd Street, NW., Washington, DC 20005. The meeting is open to the public on a first-come, first-serve basis, and is accessible to individuals with disabilities. Sign and oral interpretation can be made available if requested 10 calendar days before the meeting.

FOR FURTHER INFORMATION CONTACT: Larry Woolverton, RSAC Administrative Officer/Coordinator, FRA, 1200 New Jersey Avenue, SE., Mailstop 25, Washington, DC 20590, (202) 493-6212; or Grady Cothen, Deputy Associate Administrator for Safety, FRA, 1200 New Jersey Avenue, SE., Mailstop 25, Washington, DC 20590, (202) 493-6302.

SUPPLEMENTARY INFORMATION: Pursuant to Section 10(a)(2) of the Federal Advisory Committee Act (Pub. L. 92-463), FRA is giving notice of a meeting of the RSAC. The RSAC was established to provide advice and recommendations to the FRA on railroad safety matters. The RSAC is composed of 54 voting representatives from 31 member organizations, representing various rail industry perspectives. In addition, there are non-voting advisory representatives from the agencies with railroad safety regulatory responsibility in Canada and Mexico, the National Transportation Safety Board, and the Federal Transit Administration. The diversity of the Committee ensures the requisite range of views and expertise necessary to discharge its responsibilities. See the RSAC Web site for details on pending tasks at: http://rsac.fra.dot.gov/. Please refer to the notice published in the Federal Register on March 11, 1996, 61 FR 9740) for additional information about the RSAC.

Issued in Washington, DC, on March 11, 2009.
Grady C. Cothen, Jr.,
Deputy Associate Administrator for Safety Standards and Program Development.

[FR Doc. E9-5675 Filed 3-16-09; 8:45 am]

BILLING CODE 4910-06-P